ENVIRONMENTAL PROTECTION AGENCY

[EPA-HQ-OLEM-2019-0540; FRL-8998-01-OLEM]

Comprehensive Environmental Response, Compensation, and Liability Act (CERCLA) or Superfund, Section 128(a); Notice of Grant Funding Guidance for State and Tribal Response Programs for Fiscal Year 2022

AGENCY: Environmental Protection Agency (EPA).

ACTION: Notice.

SUMMARY: The Comprehensive Environmental Response, Compensation, and Liability Act (CERCLA), as amended, authorizes a noncompetitive $50 million grant program to establish or enhance state and tribal response programs. These response programs generally address the assessment, cleanup, and redevelopment of brown fields sites and other sites with actual or perceived contamination. For Fiscal Year (FY) 2022, the Environmental Protection Agency (EPA) will consider grant requests up to a maximum of $1.0 million per state or tribe. This document announces the availability of guidance that will assist states and tribes in the development and submission of CERCLA section 128(a) noncompetitive funding requests and utilization of these funds.

DATES: The FY 2022 CERCLA section 128(a) grant funding guidance is applicable as of October 1, 2021, and EPA Regional offices will accept requests for section 128(a) noncompetitive grant awards through December 17, 2021.

FOR FURTHER INFORMATION CONTACT: Melissa Papasavvas, Office of Brownfields and Land Revitalization, Environmental Protection Agency, 1200 Pennsylvania Ave. NW, Washington, DC 20460-0001; telephone number (202) 566-0435.

SUPPLEMENTARY INFORMATION:

I. General Information

A. Does this action apply to me?

You may be affected by this action if you administer a State or Tribal response program that oversees assessment and cleanup activities at brownfield sites across the country. Note: the CERCLA definition of “State” includes US Territories and the District of Columbia (CERCLA section 101(27)).

B. How can I get copies of the grant funding guidance and other related information?

1. Docket. The docket for this action, identified by docket identification (ID) number EPA-HQ-OLEM-2019-0540, is available online at https://www.regulations.gov.

2. EPA Website. To access the FY22 section 128(a) grant funding guidance on EPA's website, please go to https://www.epa.gov/brownfields/types-brownfields-grant-funding.

II. Authority

CERCLA section 128(a) (42 U.S.C. 9628(a)) authorizes a noncompetitive $50 million grant program to “establish or enhance” state and tribal response programs. CERCLA section 128(a)(1)(B)(ii)(III) authorizes a noncompetitive $1.5 million technical assistance grant program to assist small communities, Indian tribes, rural areas, or disadvantaged areas to carry out activities outlined in CERCLA section 104(k)(7) (42 U.S.C. 9604(k)(7)) (i.e., providing training, research, and technical assistance to individuals and organizations, as appropriate, to facilitate the inventory of brownfields sites, site assessments, remediation of brownfield sites, community involvement, or site preparation).

III. Background

1. General. State and tribal response programs oversee assessment and cleanup activities at brownfield sites across the country. The depth and breadth of these programs vary. Some focus on CERCLA-related activities, while others are multi-faceted, addressing sites regulated by both CERCLA and the Resource Conservation and Recovery Act (42 U.S.C. 6901 et seq.). Many states also offer accompanying financial incentive programs to spur cleanup and redevelopment. In enacting the Small Business Liability Relief and Brownfields Revitalization Act (Pub. L. 107-118, 115 Stat. 2356), which added section 128 to CERCLA, Congress recognized the value of state and tribal response programs in cleaning up and redeveloping brownfield sites. Section 128(a) strengthens EPA's partnerships with states and tribes and recognizes their response programs' critical role in overseeing cleanups.

Section 128(a) response program grants are funded with categorical State and Tribal Assistance Grant (STAG) appropriations. Categorical grants are issued by Congress to fund state and local governments for narrowly-defined purposes. This funding is intended for those states and tribes that have the required management and administrative capacity within their government to administer a federal grant. The primary goal of this funding is to ensure that state and tribal response programs include, or are taking reasonable steps to include, certain elements of an environmental response program and that the program establishes and maintains a public record of sites addressed.

Section 128(a) cooperative agreements are awarded and administered by the EPA regional offices. Generally, these response programs address the assessment, cleanup, and redevelopment of brownfields sites and other sites with actual or perceived contamination. Subject to the availability of funds, EPA regional personnel will provide technical assistance to states and tribes as they apply for and carry out section 128(a) cooperative agreements.

2. Catalogue of Federal Domestic Assistance (CFDA) and EPA Funding Opportunity Number (FON). The CFDA entry for the section 128(a) State and Tribal Response Program cooperative agreements is 66.817. The FON for FY 2022 section 128(a) funds is EPA-CEP-02. This grant program is eligible to be included in state and tribal Performance Partnership Grants under 40 CFR part 35 Subparts A and B, with the following exceptions: funds used to capitalize a revolving loan fund for brownfield remediation under CERCLA section 104(k)(3); funds received for technical assistance under CERCLA section 128(a)(I)(B)(ii)(III); and funds used to purchase environmental insurance or developing a risk sharing pool, an indemnity pool, or insurance mechanism to provide financing for response actions under a State or Tribal response program.

3. Application period. Requests for funding should be sent to the appropriate Regional EPA contact and will be accepted from October 1, 2021 through December 17, 2021. Requests EPA Regional offices receive after December 17, 2021 will not be considered for FY 2022 funding. States or tribes that do not submit the request in the appropriate manner may forfeit their ability to receive funds. First time requestors are strongly encouraged to contact their respective Regional EPA Brownfields contacts, identified in Table 1, prior to submitting their funding request. EPA will consider funding requests up to a maximum of $1.0 million per state or tribe for FY 2022.

Requests submitted by the December 17, 2021 request deadline are preliminary; final cooperative agreement work plans and budgets will be negotiated with the EPA regional offices once final funding allocation determinations are made. As in previous years, EPA will place special emphasis on reviewing a cooperative agreement recipient's use of prior section 128(a) funding in making allocation decisions, and unexpended balances are subject to 40 CFR 35.118 and 35.518 to the extent consistent with this guidance. EPA will also prioritize funding for recipients establishing their response programs.

Table 1—EPA Regional Brownfields Contacts for State and Tribal Response Programs
Region | State | Tribal
1—CT, ME, MA, NH, RI, VT | AmyJean McKeown, 5 Post Office Square, Suite 100 (OSRR07-2), Boston, MA 02109-3912, Phone (617) 918-1248, Fax (617) 918-1294 | AmyJean McKeown, 5 Post Office Square, Suite 100 (OSRR07-2), Boston, MA 02109-3912, Phone (617) 918-1248, Fax (617) 918-1294.
2—NJ, NY, PR, VI | John Struble, 290 Broadway, 25th Floor, New York, NY 10007-1866, Phone (212) 637-4291, Fax (212) 637-3083 | John Struble, 290 Broadway, 25th Floor, New York, NY 10007-1866, Phone (212) 637-4291, Fax (212) 637-3083.
3—DE, DC, MD, PA, VA, WV | Mike Taurino, 1650 Arch Street (3HS51), Philadelphia, PA 19103, Phone (215) 814-3371, Fax (215) 814-3274 | Mike Taurino, 1650 Arch Street (3HS51), Philadelphia, PA 19103, Phone (215) 814-3371, Fax (215) 814-3274.
4—AL, FL, GA, KY, MS, NC, SC, TN | Cindy Nolan, 61 Forsyth Street, SW, 10TH FL (9T25), Atlanta, GA 30303-8960, Phone (404) 562-8425, Fax (404) 562-8788 | Cindy Nolan, 61 Forsyth Street, SW, 10TH FL (9T25), Atlanta, GA 30303-8909, Phone (404) 562-8425, Fax (404) 562-8788.
5—IL, IN, MI, MN, OH, WI | Keary Cragan, 77 West Jackson Boulevard (SB-5J), Chicago, IL 60604-3507, Phone (312) 353-5669, Fax (312) 692-2161 | Rosita Clarke, 77 West Jackson Boulevard (SB-5J), Chicago, IL 60604-3507, Phone (312) 886-7251, Fax (312) 697-2075.
6—AR, LA, NM, OK, TX | Ana Esquivel, 1201 Elm Street, Suite 500, Dallas, Texas 75270-2102, Phone (214) 665-3163, Fax (214) 665-6660 | Elizabeth Reyes, 1201 Elm Street, Suite 500, Dallas, Texas 75270-2102, Phone (214) 665-2194, Fax (214) 665-6660.
7—IA, KS, MO, NE | Susan Klein, 11201 Renner Boulevard (LCRD/BSPR), Lenexa, KS 66219, Phone (913) 551-7786 | Jennifer Morris, 11201 Renner Boulevard ((LCRD/BSPR), Lenexa, KS 66219, Phone (913) 551-7341.
8—CO, MT, ND, SD, UT, WY | Christina Wilson, 1595 Wynkoop Street (8LCR-BR), Denver, CO 80202-1129, Phone (303) 312-6706, Fax (303) 312-6065 | Melisa Devincenzi, 1595 Wynkoop Street (8LCR-BR), Denver, CO 80202-1129, Phone (303) 312-6377, Fax (303) 312-6962.
9—AZ, CA, HI, NV, AS, GU, MP | Jose Garcia, Jr., 600 Wilshire Blvd., Suite 1460, Los Angeles, CA 90017, Phone (213) 244-1811, Fax (213) 244-1850 | Jose Garcia, Jr., 600 Wilshire Blvd., Suite 1460, Los Angeles, CA 90017, Phone (213) 244-1811, Fax (213) 244-1850.
10—AK, ID, OR, WA | Madison Sanders-Curry, 1200 Sixth Ave., Suite 155 (mail code 15-H04), Seattle, WA 98101, Phone (206) 553-1889, Fax 206) 553-8581 | Madison Sanders-Curry, 1200 Sixth Ave., Suite 155 (mail code 15-H04), Seattle, WA 98101, Phone (206) 553-1889, Fax (206) 553-8581.

Authority: 42 U.S.C. 9628(a).

Dated: September 16, 2021.
David R. Lloyd,
Director, Office of Brownfields and Land Revitalization.

[FR Doc. 2021-20470 Filed 9-21-21; 8:45 am]

BILLING CODE 6560-50-P